DEPARTMENT OF THE INTERIOR

Bureau of Land Management

[MT-926-05-9820-BJ-MT01]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Steve Toth, Cadastral Surveyor, Branch of Cadastral Survey, Bureau of Land Management, 5001 Southgate Drive, P.O. Box 36800, Billings, Montana 59107-6800, telephone (406) 896-5121 or (406) 896-5009.

SUPPLEMENTARY INFORMATION: This survey was executed at the request of the U.S. Forest Service and was necessary to delineate Forest Service lands. The lands we surveyed are:

Principal Meridian, Montana

T. 31 N., R. 18 W.

The plat, in 3 sheets, representing the dependent resurvey of a portion of the north boundary, Homestead Entry Survey No. 870 and the adjusted original meanders of the former left bank of the Middle Fork of the Flathead River through section 36, Township 32 North, Range 18 West, and unsurveyed section 1, Township 31 North, Range 18 West, and a portion of Homestead Entry Survey No. 1101 and the adjusted original meanders of the former left bank of the Middle Fork of the Flathead River in unsurveyed section 1 and the survey of a portion of a medial line, a certain tract line and certain partition lines of an abandoned channel of the Middle Fork of the Flathead River in unsurveyed section 1, a portion of the meanders of the former right bank of the Middle Fork of the Flathead River (Glacier National Park Boundary) downstream through unsurveyed section 1, the meanders of the present left bank of the Middle Fork of the Flathead River downstream through unsurveyed section 1, the meanders of the present right bank of the Middle Fork of the Flathead River (Glacier National Park Boundary) downstream through unsurveyed section 1 and the metes and bounds description of warranty deeds now designated Parcels A, B, C, D, and E, within Homestead Entry Survey No. 870 in section 36, in Township 32 North, Range 18 West and unsurveyed section 1, in Township 31 North, Range 18 West, Principal Meridian, Montana, was accepted May 20, 2005.

T. 32 N., R. 18 W.

The plat, in 1 sheet, representing the dependent resurvey of a portion of the east boundary and a portion of the subdivisional lines and the survey of a portion of the medial line of an abandoned channel of the Middle Fork of the Flathead River in section 36, the meanders of the former right bank of the Middle Fork of the Flathead River (Glacier National Park Boundary), upstream through section 36, and the meanders of a portion of the present left bank of the Middle Fork of the Flathead River, downstream, through section 36, in Township 32 North, Range 18 West, Principal Meridian, Montana, was accepted May 20, 2005.

We will place copies of the plats and related field notes we described in the open files. They will be available to the public as a matter of information. If BLM receives a protest against this survey, as shown on these plats, prior to the date of the official filing, we will stay the filing pending our consideration of the protest.

We will not officially file these plats until the day after we have accepted or dismissed all protests and they have become final, including decisions or appeals.

Dated: May 23, 2005.
Heidi L. Pfosch,
Acting Chief Cadastral Surveyor, Division of Resources.

[FR Doc. 05-10860 Filed 5-31-05; 8:45 am]

BILLING CODE 4310-$$-P